OFFICE OF PERSONNEL MANAGEMENT

Submission for Review: Information Collection;

Standard Form 86 Certification (SF 86C)

AGENCY: U.S. Office of Personnel Management.

ACTION: 60-Day notice and request for comments.

SUMMARY: Federal Investigative Services (FIS), U. S. Office of Personnel Management (OPM) offers the general public and other Federal agencies the opportunity to comment on an information collection request (ICR), Office of Management and Budget (OMB) Control No. 3206-NEW, for Standard Form 86 Certification (SF 86C). As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until September 27, 2013. This process is conducted in accordance with 5 CFR 1320.1.

ADDRESSES: Interested persons are invited to submit written comments on the proposed information collection to the Federal Investigative Services, U. S. Office of Personnel Management, 1900 E Street NW., Washington, DC 20415, Attention: Donna McLeod or sent by email to FISFormsComments@opm.gov.

FOR FURTHER INFORMATION CONTACT: A copy of this ICR, with applicable supporting documentation, may be obtained by contacting the Federal Investigative Services, U. S. Office of Personnel Management, 1900 E Street, NW., Washington, DC 20415, Attention: Donna McLeod or sent by email to FISFormsComments@opm.gov.

SUPPLEMENTARY INFORMATION: Standard Form 86 Certification (SF 86C), is an information collection completed by applicants for, or incumbents of, Federal Government civilian or military positions, or positions in private entities performing work for the Federal Government under contract. The collection is used as the basis of information:

• by the Federal Government in conducting background investigations, reinvestigations, and continuous evaluations, as appropriate, of persons under consideration for or retention in national security sensitive positions as defined in Executive Order 10450 and 5 CFR part 732, and for positions requiring eligibility for access to classified information under Executive Order 12968;

• by agencies in determining whether a person performing work for or on behalf of the Federal Government under a contract should be deemed eligible for logical or physical access when the nature of the work is sensitive and could bring about a material adverse effect on national security.

The SF 86C is completed by civilian employees of the Federal Government, military personnel, and non-federal employees, including Federal contractors and individuals otherwise not directly employed by the Federal Government but who perform work for or on behalf of the Federal Government. Numerous situations exist, requiring an individual to complete a new SF 86, for the sole purpose of determining if any information on the previously executed SF 86 has changed. The SF 86C is used in lieu of a new SF 86, to permit the individual to indicate that no data changes occurred, or to provide new or changed information. The SF 86C is a certification document that permits the reporting of changes on previously reported SF 86 information. Individual agencies maintain the form.

It is estimated that no non-Federal individuals will complete the SF 86C annually for investigations conducted by OPM. The SF 86C is not used as the basis for any investigations conducted by OPM. The SF 86C takes approximately 15 minutes to complete. The estimated annual burden for this form when used in OPM investigations is zero hours.

OPM solicits comments to determine the utility of this collection. If the form no longer meets the intended purpose, OPM recommends abolishing the form. Until that information can be obtained, OPM proposes the following changes to the SF 86C. The collection will include changes to the Privacy Act Routine Uses, to mirror the revised Standard Form questionnaires. Accordingly the term “Question” is replaced with “Section.” Section 8, U.S. Passport Information created and added to collect U.S.

passport information which was previously collected under Question 9, Citizenship. Question 10, Citizenship was expanded and amended to Section 10, Dual/Multiple Citizenship & Foreign Passport Information. Question 13 was amended to Section 13a, Employment Activities-Employment & Unemployment Record; Section 13b, Employment Activities-Former Federal Service; and Section 13c, Employment Record. Question 17, Marital Status was amended to Section 17, Marital/Relationship Status. Question 20, Foreign Activities was amended to Section 20a, Foreign Activities; Section 20b, Foreign Business, Professional Activities, and Foreign Government Contacts; and Section 20c, Foreign Countries You Have Visited. Question 21, Mental and Emotional Health was amended to Section 21, Psychological and Emotional Health. Question 23, Use of Illegal Drugs and Drug Activity was amended to Section 23, Illegal Use of Drugs and Drug Activity. This ICR also requests categorizing this form as a common form. Once OMB approves the use of this common form, all agencies using the form, not in connection with an OPM investigation may request use of this common form without additional 60 and 30 day notice and comment requirements. At that point, each agency will account for its number of respondents and the burden associated with the agency's use.

U.S. Office of Personnel Management.
Elaine Kaplan,
Acting Director.

[FR Doc. 2013-18149 Filed 7-26-13; 8:45 am]

BILLING CODE 6325-53-P